DEPARTMENT OF THE INTERIOR

National Park Service

[NPS-WASO-NAGPRA-NPS0031613; PPWOCRADN0-PCU00RP14.R50000]

Notice of Inventory Completion: Field Museum of Natural History, Chicago, IL; Correction

AGENCY: National Park Service, Interior.

ACTION: Notice; correction.

SUMMARY: The Field Museum of Natural History has corrected an inventory of human remains, published in a Notice of Inventory Completion in the Federal Register on January 5, 2010. This notice corrects the minimum number of individuals, number of associated funerary objects, and cultural affiliation. Lineal descendants or representatives of any Indian Tribe or Native Hawaiian organization not identified in this notice that wish to request transfer of control of these human remains and associated funerary objects should submit a written request to the Museum. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Field Museum at the address in this notice by May 3, 2021.

ADDRESSES: Helen Robbins, Repatriation Director, Field Museum of Natural History, 1400 S Lake Shore Drive, Chicago, IL 60605-2496, telephone (312) 665-7317, email hrobbins@fieldmuseum.org.

SUPPLEMENTARY INFORMATION: Notice is here given in accordance with the Native American Graves Protection and Repatriation Act (NAGPRA), 25 U.S.C. 3003, of the correction of an inventory of human remains and associated funerary objects under the control of the Field Museum of Natural History, Chicago, IL. The human remains and associated funerary objects were removed from the Channel Islands in Santa Barbara and Los Angeles Counties, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the minimum number of individuals, number of associated funerary objects, and cultural affiliation published in a Notice of Inventory Completion in the Federal Register (75 FR 435, January 5, 2010). Following a re-inventory of the human remains and associated funerary objects from the sites in question, the Field Museum of Natural History determined that the minimum number of individuals should be decreased by one and the number of associated funerary objects should be increased by the addition of two previously unidentified associated funerary objects. Also, further consultation yielded evidence to establish a cultural affiliation of the items with additional Indian Tribes. Transfer of control of the items in this correction notice has not occurred.

Correction

In the Federal Register (75 FR 435, January 5, 2010), column 1, paragraph 3, sentence 1 is corrected by substituting the following sentence:

A detailed assessment of the human remains and associated funerary objects was made by the Field Museum of Natural History professional staff in consultation with representatives of the La Jolla Band of Luiseno Indians, California [previously listed as La Jolla Band of Luiseno Mission Indians of the La Jolla Reservation]; Pala Band of Mission Indians [previously listed as Pala Band of Luiseno Mission Indians of the Pala Reservation, California]; Pauma Band of Luiseno Mission Indians of the Pauma & Yuima Reservation, California; Pechanga Band of Luiseno Mission Indians of the Pechanga Reservation, California; Rincon Band of Luiseno Mission Indians of Rincon Reservation, California; Santa Ynez Band of Chumash Mission Indians of the Santa Ynez Reservation, California; and the Soboba Band of Luiseno Indians, California (hereafter referred to as “The Tribes”).

In the Federal Register (75 FR 435, January 5, 2010), column 1, paragraph 4, sentence 2 is corrected by substituting the following sentence:

In 1893, human remains representing a minimum of five individuals from that removal were purchased by the Field Museum of Natural History from Ward's Natural Science Establishment of Rochester, NY (Field Museum of Natural History catalog numbers 42700-42703, accession number 407).

In the Federal Register (75 FR 435, January 5, 2010), column 2, paragraph 4, sentence 1 is corrected by substituting the following sentence:

At an unknown date, the Field Museum of Natural History acquired human remains representing a minimum of three individuals and two associated funerary objects from Santa Catalina Island, Los Angeles County, CA, from an unknown source (Field Museum of Natural History catalog number 42706, accession 3910).

In the Federal Register (75 FR 435, January 5, 2010), column 2, paragraph 4, sentence 4 is corrected by substituting the following sentence:

Two associated funerary objects are present consisting of fragments of non-human animal bone.

In the Federal Register (75 FR 435, January 5, 2010), column 2, paragraph 5, sentences 2 and 3 are corrected by substituting the following sentences:

For the human remains from San Miguel Island and the unknown Channel Island location, geographical, kinship, biological, archeological, anthropological, linguistic, folklore, oral tradition, and historical evidence indicate a shared group identity between these human remains and the Santa Ynez Band of Chumash Mission Indians of the Santa Ynez Reservation, California. Archeological investigations have identified a cultural continuity for the Chumash Indians that traces their presence on the Channel Islands back 7,000 to 9,000 years.

In the Federal Register (75 FR 435, January 5, 2010), column 2, paragraph 5, is corrected by adding the following sentence to the bottom of the paragraph:

For the human remains from San Nicolas and Santa Catalina Islands, geographical, kinship, biological, archeological, anthropological, linguistic, folklore, oral tradition, and historical evidence indicate a shared group identity between these human remains and The Tribes.

In the Federal Register (75 FR 435, January 5, 2010), column 3, paragraph 1, is corrected by substituting the following paragraph:

Officials of the Field Museum of Natural History have determined that:

• Pursuant to 25 U.S.C. 3001 (9-10), the human remains described above are reasonably believed to be the physical remains of 13 individuals of Native American ancestry;

• Pursuant to 25 U.S.C. 3001 (3)(A), the two objects described above are reasonably believed to have been placed with or near individual human remains at the time of death or later as part of the death rite or ceremony;

• Pursuant to 25 U.S.C. 3001 (2), there is a relationship of shared group identity that can be reasonably traced between the Native American human remains from both San Miguel Island and the unknown Channel Island location and the Santa Ynez Band of Chumash Mission Indians of the Santa Ynez Reservation, California; and

• Pursuant to 25 U.S.C. 3001 (2), there is a relationship of shared group identity that can be reasonably traced between the human remains from San Nicolas and Santa Catalina Islands and The Tribes.

Additional Requestors and Disposition

Lineal descendants or representatives of any Indian Tribe or Native Hawaiian organization not identified in this notice that wish to request transfer of control of these human remains and associated funerary objects should submit a written request with information in support of the request to Helen Robbins, Field Museum of Natural History, 1400 S Lake Shore Drive, Chicago, IL 60605, telephone (312) 665-7317, email hrobbins@fieldmuseum.org, by May 3, 2021. After that date, if no additional requestors have come forward, transfer of control of the human remains and associated funerary objects to The Tribes may proceed.

The Field Museum of Natural History is responsible for notifying The Tribes that this notice has been published.

Dated: March 16, 2021.
Melanie O'Brien,
Manager, National NAGPRA Program.

[FR Doc. 2021-06657 Filed 3-31-21; 8:45 am]

BILLING CODE 4312-52-P